DEPARTMENT OF STATE

[Public Notice 4605]

Notice of Intent To Establish the Secretary of State's Advisory Committee on Leadership and Management

Summary: Pursuant to section 9(a) of the Federal Advisory Committee Act (Pub. L. 92-463) and under the general authority of the Secretary and the Department of State, as derived from the President's constitutional authority and as set forth in sections 2656 and 2651a of Title 22 of the United States Code and other relevant statutes, this is a notice of intent to establish the Secretary of State's Advisory Committee on Leadership and Management.

The Advisory Committee is being created as a vehicle to address leadership and management issues as they arise and not in response to a specific issue or pending concern. Members of the Advisory Committee may include former senior U.S. government officials and members of congress and representatives of corporations, not-for-profit non-governmental organizations, professional associations, public policy or academic institutions, and other experts as needed. All meetings of this Committee will be published ahead of time in the Federal Register.

Additionally, the establishment of the Secretary of State's Advisory Committee on Leadership and Management is essential to the conduct of Department of State business, and is in the public interest. Further information regarding this committee may be obtained from Julie Wilhelm, Office of Management Policy, U.S. Department of State, Washington, DC 20520, phone (202) 647-1285.

Dated: February 4, 2004.
Marguerite Coffey,
Deputy Director, Office of Management Policy, Department of State.

[FR Doc. 04-3381 Filed 2-13-04; 8:45 am]

BILLING CODE 4710-01-P